DEPARTMENT OF DEFENSE

Office of the Secretary

Meeting of the Historical Advisory Committee

AGENCY: Department of Defense, DoD.

ACTION: Notice of open meeting.

SUMMARY: In accordance with the provisions of the Federal Advisory Committee Act, this notice announces the annual meeting of the Department of Defense Historical Advisory Committee. The committee will conduct reports from Army and Navy Historical Advisory Committees for future submission to higher authority. The meeting will be open to the public.

DATES: Wednesday, September 27th at 10 a.m.

ADDRESSES: The meeting will be held on the 12th Floor, Conference Room #4, 1777 North Kent Street, Arlington, Virginia 22209.

FOR FURTHER INFORMATION CONTACT: Mrs. Pamela Bennett at 703-588-7889 for information, and Ms. Carolyn Thorne at 703-588-7890 or Dr. Diane Putney at 703-588-7875 upon arrival at the building in order to be admitted.

Dated: August 29, 2006.
C.R. Choate,
Alternate OSD Federal Register Liaison Officer, Department of Defense.

[FR Doc. 06-7445 Filed 9-5-06; 8:45 am]

BILLING CODE 5001-06-M